INTERNATIONAL TRADE COMMISSION

[Investigation Nos. 701-TA-647 and 731-TA-1517-1520 (Preliminary)]

Passenger Vehicle and Light Truck Tires From Korea, Taiwan, Thailand, and Vietnam; Revised Schedule for the Subject Investigations

AGENCY: United States International Trade Commission.

ACTION: Notice.

DATES: June 4, 2020.

FOR FURTHER INFORMATION CONTACT: Keysha Martinez (202-205-2136), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On May 13, 2020, the Commission established a schedule for the conduct of the preliminary phase of the subject investigations (85 FR 29972, May 19, 2020). Subsequently, the Department of Commerce (“Commerce”) extended the deadline for its initiation determinations from June 2, 2020 to June 22, 2020 (85 FR 32013, May 28, 2020). The Commission, therefore, is revising its schedule to conform with Commerce's new schedule.

The Commission must reach preliminary determinations by July 17, 2020, and the Commission's views must be transmitted to Commerce within five business days thereafter, or by July 24, 2020.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: June 4, 2020.
Lisa Barton,
Secretary to the Commission.

[FR Doc. 2020-12512 Filed 6-9-20; 8:45 am]

BILLING CODE 7020-02-P